DEPARTMENT OF STATE

[Public Notice 4512]

Amendment of Certain Designations Pursuant to Section 1(b) of Executive Order 13224

Acting under the authority of section 1(b) of Executive Order 13224 of September 23, 2001, as amended by Executive Order 13286 of July 2, 2002, and Executive Order 13284 of January 23, 2003, and in consultation with the Secretary of the Treasury, the Attorney General, and the Secretary of Homeland Security, I hereby determine that the organizations listed below use or have used as aliases the additional names indicated below. I hereby amend the designations of these organizations to add the following names as aliases:

Basque Fatherland and Liberty (designated on October 31, 2001)

a.k.a. Ekin

a.k.a. K.A.S.

a.k.a. Xaki

a.k.a. Jarrai-Haika-Segi

a.k.a. Askatasuna

Harakat ul-Mujahideen (designated on September 23, 2001)

a.k.a. Jamiat ul-Ansar

Kahane Chai (designated on October 31, 2001)

a.k.a. New Kach Movement

a.k.a. newkach.org

a.k.a. Kahane

a.k.a. Yeshivat HaRav Meir

a.k.a. the International Kahane Movement

a.k.a. Kahane.org

a.k.a. Kahane.net

a.k.a. Kahanetzadak.com

a.k.a. Kahane Tzadak

a.k.a. the Hatikva Jewish Identity Center

a.k.a. the Rabbi Meir David Kahane Memorial Fund

a.k.a. Friends of the Jewish Idea Yeshiva

a.k.a. Judean Congress

a.k.a. Jewish Legion

a.k.a. The Voice of Judea

a.k.a. No'ar Meir

a.k.a. Meir's Youth

a.k.a. American Friends of Yeshivat Rav Meir

a.k.a. American Friends of the United Yeshiva Movement

a.k.a. The Committee Against Racism and Discrimination (CARD)

Mujahedin-e Khalq (designated on October 31, 2001)

a.k.a. Muslim Iranian Student's Society

Popular Front for the Liberation of Palestine (designated on October 31, 2001)

a.k.a. Martyr Abu-Ali Mustafa Battalion

Al Qaida/Islamic Army (designated on September 23, 2001)

a.k.a. Egyptian Islamic Jihad

a.k.a. al-Jihad

a.k.a. the Jihad Group

a.k.a. Egyptian al-Jihad

a.k.a. New Jihad

Revolutionary Nuclei (designated on October 31, 2001)

a.k.a. Epanastatiki Pirines

Consistent with the determination in section 10 of Executive Order 13224 that “prior notice to persons determined to be subject to the Order who might have a constitutional presence in the United States would render ineffectual the blocking and other measures authorized in the Order because of the ability to transfer funds instantaneously,” I determine that no prior notice need be provided to any person subject to this determination who might have a constitutional presence in the United States, because to do so would render ineffectual the measures authorized in the Order.

This notice shall be published in the Federal Register.

Dated: October 7, 2003.
Colin L. Powell,
Secretary of State, Department of State.

[FR Doc. 03-25889 Filed 10-9-03; 8:45 am]

BILLING CODE 4710-10-P